DEPARTMENT OF COMMERCE

Foreign-Trade Zones Board

[Docket 36-2007]

Foreign-Trade Zone 75 -- Phoenix, Arizona, Application for Expansion

An application has been submitted to the Foreign-Trade Zones (FTZ) Board (the Board) by the City of Phoenix, Arizona, grantee of FTZ 75, requesting authority to expand its existing zone to include two additional sites within the Phoenix Customs and Border Protection port of entry. The application was submitted pursuant to the provisions of the Foreign-Trade Zones Act, as amended (19 U.S.C. 81a-81u), and the regulations of the Board (15 CFR part 400). It was formally filed on August 14, 2007.

FTZ 75 was approved on March 25, 1982 (Board Order 185, 47 FR 14931, 4/7/82), and was expanded on July 2, 1993 (Board Order 647, 58 FR 37907, 7/14/93). The general-purpose zone currently consists of two sites (356 acres total) in Phoenix: Site 1 (338 acres)—within the 550-acre Phoenix Sky Harbor Center and Sky Harbor International Airport's air cargo terminal located at Papago Freeway (Interstate 10) and Buckeye Road; and, Site 2 (18 acres)—within the central southwestern portion of the CC&F South Valley Industrial Center located near the intersection of 7th Street and Victory Street.

The applicant is now requesting authority to expand its zone to include two additional sites in Phoenix: Proposed Site 3 (74 acres)—Riverside Industrial Center located at 4747 West Buckeye Road; and, Proposed Site 4 (18 acres)—Santa Fe Business Park located between 47th Avenue and 45th Avenue. The sites are owned by K. T. Riverside I, LLC and Highland Industrial Center, LLC, respectively. The sites will provide warehousing and distribution space for area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is October 22, 2007. Rebuttal comments in response to material submitted during the foregoing period may be submitted during the subsequent 15-day period to November 5, 2007.

A copy of the application and accompanying exhibits will be available for public inspection at each of the following locations: Phoenix Export Assistance Center, 1700 West Washington Street, Suite 220, Phoenix, AZ 85007; and, Office of the Executive Secretary, Foreign-Trade Zones Board, Room 2111, U.S. Department of Commerce, 1401 Constitution Avenue, NW, Washington, DC 20230.

For further information, contact Camille Evans at Camille_Evans@ita.doc.gov or at (202) 482-2350.

Dated: August 14, 2007.
Andrew McGilvray,
Executive Secretary.

[FR Doc. E7-16446 Filed 8-20-07; 8:45 am]

BILLING CODE 3510-DS-S